DEPARTMENT OF HEALTH AND HUMAN SERVICES

National Institutes of Health

Breast Cancer and Environmental Research Act of 2008; Delegation of Authority

Notice is hereby given that I have delegated to the Director, National Institutes of Health (NIH), the authorities under Section 2 of the Breast Cancer and Environmental Research Act of 2008, Public Law 110-354, as amended, which amends Subpart 1 of Part C of Title IV of the Public Health Service Act by adding Section 417F, authorizing the establishment of the Interagency Breast Cancer and Environmental Research Coordinating Committee. I am also delegating the authority under Section 417F of the Public Health Service Act, as amended, to select both voting and nonvoting members of the Committee and to review the necessity of the Committee in the year 2011 and, thereafter, at least once every two years.

This delegation shall be exercised in accordance with the Department's applicable policies, procedures, guidelines, and regulations.

In addition, I ratified and affirmed any actions taken by the NIH Director or his subordinates which involved the exercise of the authorities delegated herein prior to the effective date of this delegation.

This delegation is effective upon date of signature.

Dated: June 23, 2009.
Kathleen Sebelius,
Secretary.

[FR Doc. E9-15439 Filed 6-29-09; 8:45 am]

BILLING CODE 4140-01-M